DEPARTMENT OF AGRICULTURE

Agricultural Marketing Service

[Docket No. FV00-998-1NC]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for Marketing Agreement No. 146 Regulating the Quality of Domestically Produced Peanuts 7 CFR part 998) (Agreement).

DATES: Comments on this notice must be received by December 11, 2000.

FOR FURTHER INFORMATION CONTACT: Contact Valerie L. Emmer-Scott, Marketing Specialist, Marketing Order Administration Branch, Fruit and Vegetable Programs, AMS, USDA, room 2525-S., P.O. Box 96456, Washington, DC 20090-6456; Tel: (202) 205-2829, Fax: (202) 720-5698, or E-mail: moab.docketclerk@usda.gov. All comments should reference the docket number and the date and page number of this issue of the Federal Register.

Small businesses may request information on this notice by contacting Jay Guerber, Regulatory Fairness Representative, Marketing Order Administration Branch, Fruit and Vegetable Programs, AMS, USDA, room 2525-S, P.O. Box 96456, Washington, DC 20090-6456; telephone (202) 720-2491, Fax: (202) 720-5698, or E-mail: Jay.Guerber@usda.gov.

SUPPLEMENTARY INFORMATION: Title: Marketing Agreement No. 146, Regulating the Quality of Domestically Produced Peanuts—7 CFR part 998.

OMB Number: 0581-0067.

Expiration Date of Approval: July 31, 2001.

Type of Request: Extension and revision of a currently approved information collection.

Abstract: Marketing agreement and order programs provide an opportunity for producers of fresh fruits, vegetables and specialty crops, in a specified production area, to work together to solve marketing problems that cannot be solved individually. Such regulations help ensure adequate supplies of high quality product and adequate returns to producers. Under the Agricultural Marketing Agreement Act of 1997 (AMAA), as amended (7 U.S.C. 601-674), the Agreement was established for handlers who voluntarily signed it. Signers agreed to have peanuts inspected, meet both incoming and outgoing quality regulations, be chemically tested and certified “negative” as to aflatoxin. The Secretary of Agriculture is authorized to oversee the Agreement's operations and consider issuing regulations recommended by a committee of producer and handler representatives from each of the three peanut producing areas within the 16-state production area.

The information collection requirements in this request are essential to carry out the intent of the AMAA, to provide the respondents the type of service they request, and to administer the Peanut Marketing Agreement program, which has been operating since 1965.

The Agreement authorizes the issuance of quality regulations along with inspection requirements. The Agreement also provides authority for limited indemnification. The Agreement, and rules and regulations issued thereunder, authorize the Peanut Administrative Committee (Committee), which is responsible for locally administering the program, to require handlers and growers to submit certain information. Much of the information is compiled in aggregate and provided to the industry to assist in marketing decisions.

The Committee has developed forms as a means for persons to file required information with the Committee relating to peanut supplies, shipments, dispositions, and other information needed to effectively carry out the purpose of the AMAA and Agreement. USDA forms are used by peanut growers and handlers, who are nominated by their peers to serve as representatives on the Committee, to submit their qualifications to the Secretary. Other USDA forms are used by handlers to sign the Agreement.

These forms require the minimum information necessary to effectively carry out the requirements of the Agreement, and their use is necessary to fulfill the intent of the AMAA as expressed in the Agreement.

The information collected is used only by authorized representatives of the USDA, including AMS, Fruit and Vegetable Programs' regional and headquarter's staff, and authorized employees of the Committee. Authorized Committee employees and the industry, which may be provided only aggregate (not confidential) information, are the primary users of the information and AMS is the secondary user.

Estimate of Burden: Public reporting burden for this collection of information is estimated to average .45 hours per response.

Respondents: Peanut producers and persons handling fresh and processed peanuts produced in the 16-state production area.

Estimated Number of Respondents: 25.

Estimated Number of Responses per Respondent: 10.44.

Estimated Total Annual Burden on Respondents: 118 hours.

Comments: Comments are invited on: (1) Whether the proposed collection of the information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

Comments should reference OMB No. 0581-0067 and the Peanut Marketing Agreement No. 146, and be mailed to Docket Clerk, Fruit and Vegetable Programs, AMS, USDA, P.O. Box 96456, Room 2525-S, Washington, DC 20090-6456; Fax (202) 720-5698; or E-mail: moab.docketclerk@usda.gov. Comments should reference the docket number and the date and page number of this issue of the Federal Register. All comments received will be available for public inspection in the Office of the Docket Clerk during regular USDA business hours at 14th and Independence Ave., SW, Washington, DC, room 2525-S, or can be viewed at: http://www.ams.usda.gov/fv/moab.html.

All responses to this notice will be summarized and included in the request for OMB approval. All comments will also become a matter of public record.

Dated: October 3, 2000.
Robert C. Keeney,
Deputy Administrator, Fruit and Vegetable Programs.

[FR Doc. 00-25948 Filed 10-6-00; 8:45 am]

BILLING CODE 3410-02-U